DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology. Comments regarding these information collections are best assured of having their full effect if received by April 24, 2023. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: Regulations Governing Inspection Certification of Fresh and Processed Fruits, Vegetables and Other Products—7 CFR part 51 and 52.

OMB Control Number: 0581-0125.

Summary of Collection: Office of Management and Budget (OMB) 0581-0125 is authorized under, The Agricultural Marketing Act of 1946 (AMA), as amended, (7 U.S.C. 1621-1627) and “. . . directs and authorizes the Secretary of Agriculture to inspect, certify, and identify the class, quantity, quality, and condition of agricultural products when shipped or received in interstate commerce, under such rules and regulations as the Secretary may prescribe, etc. (7 U.S.C. 1622)”. The AMA provides for audit based inspection services so that agricultural products may be marketed to their best advantage, that trade may be facilitated, and that consumers may be able to ascertain characteristics involved in the production and processing of products and obtain the quality of product they desire (7 U.S.C. 1622(h)).

The present Regulations (7 CFR part 51) Governing Inspection, Certification and Standards for Fresh Fruits, Vegetables, and Other Products, and Regulations Governing Inspection and Certification of Processed Fruits and Vegetables and Related Products (7 CFR part 52) are promulgated under the provisions of the Agricultural Marketing Act of 1946. The Secretary has delegated this authority to the Agricultural Marketing Service (AMS), Specialty Crops Program (SCP), Specialty Crops Inspection (SCI) Division.

Need and Use of the Information: The information is utilized by USDA, AMS, SCP, SCI Division, for inspection, grading, and certification purposes. SCI Division's grading and inspection services address food safety concerns, while simultaneously measuring and evaluating a multitude of quality parameters that are necessary for the procurement of nutritious foods.

SCI Division's grade standards also serve to bring fresh and processed fruits and vegetables in line with present quality levels being marketed today. This helps the fresh and processed food industries by providing an objective grade-based market stratification system for fresh and processed food products. Fresh and processed food businesses often use the SCI Divisions' quality criteria as the basis for selling fresh and processed food commodities.

Description of Respondents: Business or other for profit.

Number of Respondents: 60,000.

Frequency of Responses: Reporting: Annually.

Total Burden Hours: 25,282.

Agricultural Marketing Service

Title: Mandatory Country of Origin Labeling of All Covered Commodities.

OMB Control Number: 0581-0250.

Summary of Collection: The 2002 (Pub. L. 107-171) and 2008 (Pub. L. 110-234), Farm Bills and the Consolidated Appropriations Act, 2016 (Pub. L. 114-113) amended the Agricultural Marketing Act of 1946 to require retailers to notify their customers of the country of origin of muscle cuts and ground lamb, chicken, and goat meat; wild and farm-raised fish and shellfish; perishable agricultural commodities; peanuts, pecans, and macadamia nuts; and ginseng. An interim final rule for mandatory Country of Origin Labeling (COOL) for fish and shellfish became effective on April 4, 2005. An interim final rule for the remaining covered commodities became effective on September 30, 2008. On January 15, 2009, a final rule was published for all covered commodities which became effective March 16, 2009. On May 23, 2013, a final rule was published to amend the definition of retailer and labeling requirements for meat muscle cut commodities derived from animals slaughtered in the United States.

With the Consolidated Appropriations Act, 2016, Congress amended the Agricultural Marketing Act of 1946 to remove muscle cut beef and pork, and ground beef and pork commodities from COOL requirements. On March 2, 2016, AMS issued a final rule to remove mandatory COOL requirements for beef, pork, ground beef and ground pork to conform with the statute. Mandatory COOL requirements remain in full force and effect for all remaining covered commodities. Enforcement activities have been conducted since 2006 utilizing cooperative agreements established with State agencies as authorized by the statute. The previously approved information collection request expires on March 31, 2023.

Need and Use of the Information: Producers, handlers, manufacturers, wholesalers, importers, and retailers of covered commodities are affected. This public reporting burden is necessary to ensure accuracy of country of origin and method of production declarations relied upon at the point of sale at retail. The public reporting burden also assures that all parties involved in supplying covered commodities to retail stores maintain and convey accurate information as required.

Description of Respondents: Business or other for-profit; Farms.

Number of Respondents: 349,598.

Frequency of Responses: Recordkeeping.

Total Burden Hours: 19,879,947.

Levi S. Harrell,
Departmental Information Collection Clearance Officer.

[FR Doc. 2023-06160 Filed 3-23-23; 8:45 am]

BILLING CODE 3410-02-P